NATIONAL CREDIT UNION ADMINISTRATION

Submission for OMB Review; Comment Request

AGENCY: National Credit Union Administration (NCUA).

ACTION: Notice.

SUMMARY: The National Credit Union Administration (NCUA) will submit the following information collection requests to the Office of Management and Budget (OMB) for review and clearance in accordance with the Paperwork Reduction Act of 1995, on or after the date of publication of this notice.

DATES: Comments should be received on or before September 30, 2019 to be assured of consideration.

ADDRESSES: Send comments regarding the burden estimates, or any other aspect of the information collections, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Suite 6018, Alexandria, VA 22314, or email at PRAComments@ncua.gov.

FOR FURTHER INFORMATION CONTACT: Copies of the submission may be obtained by contacting Dawn Wolfgang at (703) 548-2279, emailing PRAComments@ncua.gov, or viewing the entire information collection request at www.reginfo.gov.

SUPPLEMENTARY INFORMATION:

OMB Number: 3133-0061.

Type of Review: Extension of a currently approved collection.

Title: Central Liquidity Facility, 12 CFR part 725.

Forms: NCUA Forms 8702, 8703, 7001, 7002, 7003, 7004, and 8700C.

Abstract: Part 725 contains the regulations implementing the National Credit Union Central Liquidity Facility Act, subchapter III of the Federal Credit Union Act. The NCUA Central Liquidity Facility is a mixed-ownership Government corporation within NCUA. It is managed by the NCUA Board and is owned by its member credit unions. The purpose of the Facility is to improve the general financial stability of credit unions by meeting their liquidity needs and thereby encourage savings, support consumer and mortgage lending and provide basic financial resources to all segments of the economy. The Central Liquidity Facility achieves this purpose through operation of a Central Liquidity Fund (CLF). The collection of information under this part is necessary for the CLF to determine credit worthiness, as required by 12 U.S.C 1795e(2).

Estimated Total Annual Burden Hours: 14.

OMB Number: 3133-0133.

Type of Review: Extension of a currently approved collection.

Title: Investments and Deposit Activities, 12 CFR part 703.

Abstract: The National Credit Union Administration (NCUA) Federal Credit Union Act, 12 U.S.C. 1757(7), 1757(8), 1757(15), lists securities, deposits, and other obligations in which a Federal Credit Union (FCU) may invest. The regulations related to these areas are contained in Part 703 and Section 721.3 of the NCUA Rules and Regulations which set forth requirements related to maintaining an adequate investment program. The information collected is used by the NCUA to determine compliance with the appropriate sections of the NCUA Rules and Regulations and Federal Credit Union Act, which governs investment and deposit activities on the basis of safety and soundness concerns. It is used to determine the level of risk that exists within a credit union, the actions taken by the credit union to mitigate such risk, and helps prevent losses to federal credit unions and the National Credit Union Share Insurance Fund (NCUSIF).

Estimated Total Annual Burden Hours: 53,959.

OMB Number: 3133-0182.

Type of Review: Extension of a currently approved collection.

Title: Bank Conversions and Mergers, 12 CFR part 708a.

Abstract: Part 708a of NCUA's Rules and Regulations covers the conversion of federally insured credit unions (credit unions) to mutual savings banks (MSBs) and mergers of credit unions into both mutual and stock banks (banks). Part 708a requires credit unions that intend to convert to MSBs or merge into banks to provide notice and disclosure of their intent to convert or merge to their members and NCUA, and to conduct a membership vote. In addition, Subpart C requires credit unions that intend to merge into banks to determine the merger value of the credit union. The information collection allows NCUA to ensure compliance with statutory and regulatory requirements for conversions and mergers and ensures that members of credit unions have sufficient and accurate information to exercise an informed vote concerning a proposed conversion or merger.

Estimated Total Annual Burden Hours: 391.

By Gerard Poliquin, Secretary of the Board, the National Credit Union Administration, on August 26, 2019.
Dated: August 26, 2019.
Dawn D. Wolfgang,
NCUA PRA Clearance Officer.

[FR Doc. 2019-18651 Filed 8-28-19; 8:45 am]

BILLING CODE 7535-01-P